SURFACE TRANSPORTATION BOARD

[Docket No. AB 1319X]

City Utilities of Springfield, Mo.—Abandonment Exemption—in Greene County, Mo.

City Utilities of Springfield, Mo. (City Utilities), has filed with the Surface Transportation Board (Board) a petition under 49 CFR 10502 for exemption from the prior approval requirements of 49 U.S.C. 10903 to abandon approximately 1.24 miles of rail line extending from approximately milepost 248.86 to approximately milepost 250.1, in Greene County, Mo. (the Line).¹

¹ City Utilities states that it acquired title to the Line and other track from the Burlington Northern Railroad Company (BN) through deeds dated January 15, 1986, and July 21, 1987, and that BN, and subsequently BNSF Railway Company, provided rail operations over the Line to deliver coal to City Utilities' James River Power Station until that facility ceased burning coal in 2015. According to City Utilities, while recently performing due diligence in the process of converting the right-of-way into a multi-use recreational trail, it realized that it inadvertently neglected to seek acquisition authority for the Line from the ICC when City Utilities acquired the Line from BN. City Utilities obtained after-the-fact acquisition authority in October 2021. See City Utils. of Springfield, Mo.—Acquis. Exemption—Line of BNSF Ry. in Greene Cnty., Mo., FD 36543 (STB served Oct. 15, 2021).

City Utilities states that, based on information in its possession, the Line does not contain federally granted rights-of-way. Any documentation in City Utilities' possession will be made available promptly to those requesting it.

The interest of railroad employees will be protected by the conditions set forth in Oregon Short Line Railroad—Abandonment Portion Goshen Branch Between Firth & Ammon, in Bingham & Bonneville Counties, Idaho, 360 I.C.C. 91 (1979).

By issuing this notice, the Board is instituting an exemption proceeding pursuant to 49 U.S.C. 10502(b). A final decision will be issued by January 28, 2022.

Any offer of financial assistance (OFA) under 49 CFR 1152.27(b)(2) will be due no later than 120 days after the filing of the petition for exemption, or 10 days after service of a decision granting the petition for exemption, whichever occurs sooner. Persons interested in submitting an OFA must first file a formal expression of intent to file an offer by November 12, 2021, indicating the type of financial assistance they wish to provide (i.e., subsidy or purchase) and demonstrating that they are preliminarily financially responsible. See 49 CFR 1152.27(c)(1)(i).

Following abandonment, the Line may be suitable for other public use, including interim trail use. Any request for a public use condition under 49 CFR 1152.28 or for interim trail use/rail banking under 49 CFR 1152.29 will be due no later than November 22, 2021.²

² Filing fees for OFAs and trail use requests can be found at 49 CFR 1002.2(f)(25) and (27), respectively.

All pleadings, referring to Docket No. AB 1319X, should be filed with the Surface Transportation Board via e-filing on the Board's website. In addition, a copy of each pleading must be served on City Utilities' representative, Thomas W. Wilcox, Law Office of Thomas W. Wilcox, LLC, 1629 K Street NW, Suite 300, Washington, DC 20006. Replies to the petition are due on or before November 22, 2021.

Persons seeking further information concerning abandonment procedures may contact the Board's Office of Public Assistance, Governmental Affairs, and Compliance at (202) 245-0238 or refer to the full abandonment regulations at 49 CFR part 1152. Questions concerning environmental issues may be directed to the Board's Office of Environmental Analysis (OEA) at (202) 245-0294. Assistance for the hearing impaired is available through the Federal Relay Service at (800) 877-8339.

An environmental assessment (EA) (or environmental impact statement (EIS), if necessary) prepared by OEA will be served upon all parties of record and upon any other agencies or persons who comment during its preparation.³ Other interested persons may contact OEA to obtain a copy of the EA (or EIS). EAs in abandonment proceedings normally will be made available within 60 days of the filing of the petition. The deadline for submission of comments on the EA generally will be within 30 days of its service.

³ City Utilities filed its environmental and historic report along with its petition on October 12, 2021, and supplemented the record on October 14, 2021, with a letter from the Missouri State Historic Preservation Office.

Board decisions and notices are available at www.stb.gov.

Decided: October 27, 2021.
By the Board, Scott M. Zimmerman, Acting Director, Office of Proceedings.
Aretha Laws-Byrum,
Clearance Clerk.

[FR Doc. 2021-23760 Filed 10-29-21; 8:45 am]

BILLING CODE 4915-01-P